FEDERAL COMMUNICATIONS COMMISSION

47 CFR Part 73

[DA 07-2389; MB Docket No. 03-57; RM-10565]

Radio Broadcasting Services; Crede, Fort Collins, Westcliffe and Wheat Ridge, CO

AGENCY: Federal Communications Commission.

ACTION: Final rule; dismissal.

SUMMARY: This document dismisses an Application for Review filed by Meadowlark Group, Inc. directed to the Memorandum Opinion and Order in this proceeding. With this action, the proceeding is terminated.

FOR FURTHER INFORMATION CONTACT: Robert Hayne, Media Bureau, (202) 418-2177.

SUPPLEMENTARY INFORMATION: This is a synopsis of the Commission's Memorandum Opinion and Order in MB Docket No. 03-57, adopted June 6, 2007, and released June 8, 2007. The full text of this decision is available for inspection and copying during normal business hours in the FCC's Reference Information Center at Portals II, CY-A257, 445 12th Street, SW., Washington, DC 20554. The complete text of this decision may also be purchased from the Commission's copy contractor, Best Copy and Printing, Inc., 445 12th Street, SW., Room CY-B402, Washington, DC 20554, telephone 1-800-378-3160 or http://www.BCPIWEB.com. This document is not subject to the Congressional Review Act. (The Commission is, therefore, not required to submit a copy of this Report and Order to GAO, pursuant to the Congressional Review Act, see 5 U.S.C. 801(a)(1)(A), because this proposed rule was dismissed.)

List of Subjects in 47 CFR Part 73

Radio, Radio broadcasting.

Federal Communications Commission.
John A. Karousos,
Assistant Chief, Audio Division, Media Bureau.

[FR Doc. E7-12546 Filed 6-27-07; 8:45 am]

BILLING CODE 6712-01-P